DEPARTMENT OF DEFENSE

GENERAL SERVICES ADMINISTRATION

NATIONAL AERONAUTICS AND SPACE ADMINISTRATION

48 CFR Parts 37 and 52

[FAC 2005-80; FAR Case 2014-008; Correction; Docket 2014-0008; Sequence No. 1]

RIN 9000-AM84

Federal Acquisition Regulation; Management and Oversight of the Acquisition of Services; Correction

AGENCIES: Department of Defense (DoD), General Services Administration (GSA), and National Aeronautics and Space Administration (NASA).

ACTION: Final rule; correction.

SUMMARY: DoD, GSA, and NASA are issuing a correction to FAR Case 2014-008; Management and Oversight of the Acquisition of Services (Item II), which was published in the Federal Register at 80 FR 4992, January 29, 2015.

DATE: Effective: March 2, 2015.

FOR FURTHER INFORMATION CONTACT: Mr. Michael O. Jackson, Procurement Analyst, at 202-208-4949, for clarification of content. For information pertaining to status or publication schedules, contact the Regulatory Secretariat at 202-501-4755. Please cite FAC 2005-80; FAR Case 2014-008; Correction.

SUPPLEMENTARY INFORMATION:

Correction

In rule FR Doc. 2015-01525 published in the Federal Register at 80 FR 4992, January 29, 2015, make the following correction:

On page 4993, in the third column, line 22, correct “Mar 2015” to read “(Mar 2015)”.

Authority: 40 U.S.C. 121(c); 10 U.S.C. chapter 137; and 51 U.S.C. 20113.

Dated: February 3, 2015.
William Clark,
Director, Office of Government-wide Acquisition Policy, Office of Acquisition Policy, Office of Government-wide Policy.

[FR Doc. 2015-02541 Filed 2-6-15; 8:45 am]

BILLING CODE 6820-EP-P